FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

20182104 | G | Walgreens Boots Alliance, Inc.; Fred's, Inc.; Walgreens Boots Alliance, Inc.
20190080 | G | Bharti Overseas Private Limited (India); Triton International Limited; Bharti Overseas Private Limited (India).
11/02/2018
20181993 | G | Willdan Group, Inc.; Lime Energy Co.; Willdan Group, Inc.
20190048 | G | Agilent Technologies, Inc.; Acea Biosciences, Inc.; Agilent Technologies, Inc.
20190073 | G | Husky Energy Inc.; MEG Energy Corp.; Husky Energy Inc.
20190130 | G | SoftBank Vision Fund (AIV M1) L.P.; View, Inc.; SoftBank Vision Fund (AIV M1) L.P.
20190135 | G | BEP Diamond Topco L.P.; American Securities Partners VII, L.P.; BEP Diamond Topco L.P.
20190137 | G | Mr. Zhiqiang Lu; Genworth Financial, Inc.; Mr. Zhiqiang Lu.
20190139 | G | Brown & Brown, Inc.; The Hays Group, Inc.; Brown & Brown, Inc.
20190142 | G | ITE Rail Fund L.P.; Carl C. Icahn; ITE Rail Fund L.P.
20190147 | G | Golden Gate Capital Opportunity Fund, L.P.; Merit Mezzanine Fund IV, L.P.; Golden Gate Capital Opportunity Fund, L.P.
20190149 | G | Golden Gate Capital Opportunity Fund, L.P.; Providence Equity Partners VII Vector Learning L.P.; Golden Gate Capital Opportunity Fund, L.P.
20190162 | G | AP VIII Prime Security Services Holdings, L.P.; Comvest Investment Partners IV, L.P.; AP VIII Prime Security Services Holdings, L.P.
20190163 | G | Clearlake Capital Partners V, L.P.; Riverside Capital Appreciation Fund V, L.P.; Clearlake Capital Partners V, L.P.
20190164 | G | The Veritas Capital Fund VI, L.P.; ICG Strategic Secondaries Fund II LP; The Veritas Capital Fund VI, L.P.
20190173 | G | Carlyle International Energy Partners, L.P.; Lime Rock Partners V, L.P.; Carlyle International Energy Partners, L.P.
11/05/2018
20190036 | G | Saban Capital Acquisition Corp.; Panavision Inc.; Saban Capital Acquisition Corp.
11/06/2018
20182074 | G | TMX Holdings, LLLP; Aramark; TMX Holdings, LLLP.
20190049 | G | DG Urban-C LP; Urban Compass, Inc.; DG Urban-C LP.
20190107 | G | Crestview Partners II, L.P.; Harvest Volatility Management, LLC; Crestview Partners II, L.P.
20190172 | G | Vedihold S.A.; Riverside Fund V, L.P.; Vedihold S.A.
20190185 | G | Bain Capital Fund XII, L.P.; Lindsay Goldberg III AIV DT (Direct) L.P.; Bain Capital Fund XII, L.P.
11/07/2018
20182026 | G | Stryker Corporation; K2M Group Holdings, Inc.; Stryker Corporation.
20190168 | G | Tata Steel Limited; thyssenkrupp Netherlands Project B.V.; Tata Steel Limited.
20190170 | G | thyssenkrupp AG; thyssenkrupp Netherlands Project B.V.; thyssenkrupp AG.
20190115 | G | Atlas Copco AB; Brooks Automation, Inc.; Atlas Copco AB.
20190152 | G | Thoma Bravo Fund XIII, L.P.; Imperva, Inc.; Thoma Bravo Fund XIII, L.P.
20190160 | G | 2003 TIL Settlement; Thomas D. Barnes and Sharon J. Barnes (Husband & Wife); 2003 TIL Settlement.
11/09/2018
20190157 | G | Temasek Holdings (Private) Limited; General Electric Company; Temasek Holdings (Private) Limited.
20190179 | G | KKR Americas Fund XII, L.P.; Epic Games, Inc.; KKR Americas Fund XII, L.P.
20190182 | G | Ensign Energy Services Inc.; Trinidad Drilling Ltd.; Ensign Energy Services Inc.
20190183 | G | CIP Capital Fund II, L.P.; Falfurrias Capital Partners II, LP; CIP Capital Fund II, L.P.
20190198 | G | WH Smith PLC; InMotion Entertainment Holdings LLC; WH Smith PLC.
20190199 | G | Trident VII, L.P. c/o Stone Point Capital LLC; Lennar Corporation; Trident VII, L.P. c/o Stone Point Capital LLC.
20190203 | G | Saputo Inc.; Jeffrey B. Terranova; Saputo Inc.
20190209 | G | EnerSys; Fred Kaiser; EnerSys.
20190211 | G | MKS Instruments, Inc.; Electro Scientific Industries, Inc.; MKS Instruments, Inc.
20190215 | G | Sovos Brands Limited Partnership; Noosa Holdco, L.P.; Sovos Brands Limited Partnership.
20190216 | G | TPG Growth IV DE AIV II, L.P.; Q-Centrix Holdings, LLC; TPG Growth IV DE AIV II, L.P.
20190220 | G | Kerry Group plc; Green Plains, Inc.; Kerry Group plc.
20190228 | G | NCR Corporation; Flexpoint Fund II, L.P.; NCR Corporation.
20190235 | G | Platinum Equity Capital Partners IV. L.P.; Lonza Group Ltd; Platinum Equity Capital Partners IV. L.P.
11/14/2018
20190132 | G | Trian Partners, L.P.; PPG Industries Inc; Trian Partners, L.P.
20190133 | G | Trian Star Trust; PPG Industres, Inc.; Trian Star Trust.
20190134 | G | Trian Partners Co-Investment Opportunities Fund, LLC; PPG Industries Inc.; Trian Partners Co-Investment Opportunities Fund, LLC.
20190155 | G | Welsh Carson Anderson & Stowe XII, L.P.; SIG Growth Equity Funds Limited Partnership, LLLP; Welsh Carson Anderson & Stowe XII, L.P.
20190166 | G | Clearlake Capital Partners V, L.P.; VCS Holdco, LLC; Clearlake Capital Partners V, L.P.
20190195 | G | Ross Aviation Investment, LLC; Thomas J. Russell; Ross Aviation Investment, LLC.
20190219 | G | Osaka Gas Co., Ltd; GIP II CPV Holdings Partnership, L.P.; Osaka Gas Co., Ltd.
20190226 | G | George D. Yancopoulos, M.D., PH.D; Regeneron Pharmaceuticals, Inc; George D. Yancopoulos, M.D., PH.D.
20190240 | G | GIP III Stetson II, L.P.; EnLink Midstream Partners, LP; GIP III Stetson II, L.P.
20181104 | S | K. Rupert Murdoch; The Walt Disney Company; K. Rupert Murdoch.
20190189 | G | The Resolute Fund III, LP; The Resolute Fund II, LP; The Resolute Fund III, LP.
20190197 | G | Benchmark Capital Partners VII, L.P.; Cloudera, Inc.; Benchmark Capital Partners VII, L.P.
20190205 | G | Eagle Parent Holdings, LLC; INTTRA Inc.; Eagle Parent Holdings, LLC.
20190207 | G | Invesco Ltd.; Massachusetts Mutual Life Insurance Company; Invesco Ltd.
20190246 | G | Massachusetts Mutual Life Insurance Company; Invesco Ltd.; Massachusetts Mutual Life Insurance Company.
11/19/2018
20190104 | G | Carlyle Holdings I L.P.; Robert G. Korn; Carlyle Holdings I L.P.
20190105 | G | Carlyle Holdings I L.P.; William D. Hoffman; Carlyle Holdings I L.P.
20190112 | G | Mercer International Inc.; Marubeni Corporation; Mercer International Inc.
20190113 | G | Mercer International Inc.; Nippon Paper Industries Co., Ltd.; Mercer International Inc.
20190116 | G | Cloudera, Inc.; Hortonworks, Inc.; Cloudera, Inc.
20190237 | G | Cornell Capital Partners LP; Novacap Industries IV, L.P.; Cornell Capital Partners LP.
20190244 | G | Arch Capital Group Ltd.; Daniel F. McNeil; Arch Capital Group Ltd.
20190247 | G | Mr. Paul Rady; Antero Midstream Corporation; Mr. Paul Rady.
20190248 | G | Antero Midstream Corporation; Antero Midstream Partners LP; Antero Midstream Corporation.
20190249 | G | Mr. Glen C. Warren, Jr.; Antero Midstream Corporation; Mr. Glen C. Warren, Jr.
20190250 | G | Antero Resources Corporation; Antero Midstream Corporation; Antero Resources Corporation.
20190251 | G | IPG Photonics Corporation; Genesis Systems Group, LLC; IPG Photonics Corporation.
20190252 | G | Robert Kraft; Resolute Forest Products Inc.; Robert Kraft.
20190254 | G | Schwarz Partners, L.P.; Resolute Forest Products Inc.; Schwarz Partners, L.P.
20190258 | G | Trade Supplies Holdings, LLC; Steven Supowitz; Trade Supplies Holdings, LLC.
20190261 | G | Avista Capital Partners IV, L.P.; G&W Laboratories,Inc.; Avista Capital Partners IV, L.P.
20190262 | G | FR XIII Charlie AIV, L.P.; Dominion Energy, Inc.; FR XIII Charlie AIV, L.P.
20190263 | G | Hub Group, Inc.; CaseStack, Inc.; Hub Group, Inc.
20190264 | G | Asahi Kasei Corporation; Atlas Capital Resources (A5) LP; Asahi Kasei Corporation.
20190265 | G | Churchill Downs Incorporated; High Plaines Gaming, LLC; Churchill Downs Incorporated.
20190267 | G | PPG Industries, Inc.; Marilyn J. Scranton; PPG Industries, Inc.
20190268 | G | The Marcus Corporation; VSS IV SPV LP; The Marcus Corporation.
20190270 | G | Sanofi; Denali Therapeutics Inc.; Sanofi.
20190274 | G | BBH Capital Partners V, L.P.; Jeremy Finkelstein, M.D.; BBH Capital Partners V, L.P.
20190286 | G | ABRY Partners VIII, L.P.; U.S. Legal Support, Inc.; ABRY Partners VIII, L.P.
20190287 | G | Leonard S. Schleifer, M.D., Ph.D.; Regeneron Pharmaceuticals, Inc.; Leonard S. Schleifer, M.D., Ph.D.
20190303 | G | Aquiline Financial Services Fund III L.P.; Ronald O. Perelman; Aquiline Financial Services Fund III L.P.
20190144 | G | Ensco Plc; Rowan Companies Plc; Ensco Plc.
20190180 | G | Twilio Inc.; SendGrid, Inc.; Twilio Inc.
20190221 | G | Pershing Square International, Ltd.; Hilton Worldwide Holdings, Inc.; Pershing Square International, Ltd.
20190222 | G | PS Holdings Independent Trust; Hilton Worldwide Holdings, Inc.; PS Holdings Independent Trust.
20190223 | G | PS Holdings Independent Trust; Starbucks Corporation; PS Holdings Independent Trust.
20190224 | G | Pershing Square International, Ltd.; Starbucks Corporation; Pershing Square International, Ltd.
20190225 | G | Pershing Square International, Ltd.; United Technologies Corporation; Pershing Square International, Ltd.
20190292 | G | Thoma Bravo Fund XIII, L.P.; Broadcom Inc.; Thoma Bravo Fund XIII, L.P.
20190297 | G | Letterone Investment Holdings S.A.; Wynnchurch Capital Partners IV, L.P.; Letterone Investment Holdings S.A.
11/21/2018
20190191 | G | Farallon Capital Partners, L.P.; Dell Technologies Inc.; Farallon Capital Partners, L.P.
20190192 | G | Farallon Capital Offshore Investors II, L.P.; Dell Technologies Inc.; Farallon Capital Offshore Investors II, L.P.
20190193 | G | Farallon Capital Institutional Partners, L.P.; Dell Technologies Inc.; Farallon Capital Institutional Partners, L.P.
20190210 | G | Mitsubishi UFJ Lease & Finance Company Limited; Aquiline Financial Services Fund II L.P.; Mitsubishi UFJ Lease & Finance Company Limited.
20190283 | G | WndrCo, LLC; Intersections Inc.; WndrCo, LLC.
20190290 | G | Walker Holdings, LLC; Advent-Bojangles Acquisition Limited Partnership; Walker Holdings, LLC.
20190302 | G | Wind Point Partners, VIII-A, L.P.; The Kleinfelder Group, Inc.; Wind Point Partners, VIII-A, L.P.
20190317 | G | Encana Corporation; Newfield Exploration Company; Encana Corporation.
11/23/2018
20190018 | G | Thor Industries, Inc.; Erwin Hymer Group SE; Thor Industries, Inc.
20190293 | G | Bears Holding Sub, Inc.; PS Spine Holdco, LLC; Bears Holding Sub, Inc.
20190299 | G | MidOcean Partners V, L.P.; Oaktree Capital Group Holdings, L.P.; MidOcean Partners V, L.P.
20190300 | G | Nestle S.A.; Aimmune Therapeutics, Inc.; Nestle S.A.
20190304 | G | Yafu Qiu; Koch Industries, Inc.; Yafu Qiu.
20190305 | G | Hubbard Broadcasting, Inc.; Alpha Media Holdings LLC; Hubbard Broadcasting, Inc.
20190309 | G | Five Point Energy Fund I LP; Halcon Resources Corporation; Five Point Energy Fund I LP.
20190310 | G | Michael F. Neidorff; Centene Corporation; Michael F. Neidorff.
20190315 | G | InstarAGF Essential Infrastructure LP; Buckeye Partners L.P.; InstarAGF Essential Infrastructure LP.
20190321 | G | Flowers Foods, Inc.; Josh Skow; Flowers Foods, Inc.
20190323 | G | GTCR Fund XII/B LP; Ultimus Holdings, LLC; GTCR Fund XII/B LP.
20190324 | G | Vantage Energy Acquisition Corp.; QEP Resources, Inc.; Vantage Energy Acquisition Corp.
20190325 | G | Mr. Vincent Viola; Investment Technology Group, Inc.; Mr. Vincent Viola.
20190328 | G | GATX Corporation; ECN Capital Corp.; GATX Corporation.
20190333 | G | GHO Capital Fund I, L.P.; Brian Healy; GHO Capital Fund I, L.P.
20190334 | G | Platinum Equity Capital Partners IV, L.P.; Newell Brands Inc.; Platinum Equity Capital Partners IV, L.P.
20190341 | G | Incline Equity Partners IV, L.P.; Carousel Capital Partners IV, L.P.; Incline Equity Partners IV, L.P.
11/27/2018
20181203 | G | Endo International plc; Veerappan Subramanian; Endo International plc.
20190229 | G | NeoGenomics, Inc.; Genesis Acquisition Holdings Corp.; NeoGenomics, Inc.
20190331 | G | Bristow Group Inc.; Nancy C. Lematta; Bristow Group Inc.
20190337 | G | Tallgrass Energy, LP; NGL Energy Partners LP; Tallgrass Energy, LP.
20190338 | G | Greenbriar Equity Fund IV, L.P.; BDP International, Inc.; Greenbriar Equity Fund IV, L.P.
20190360 | G | Altair Engineering Inc.; Datawatch Corporation; Altair Engineering Inc.
11/28/2018
20190296 | G | KK GP; Agnaten SE; KK GP.
20190327 | G | William Goldring; Diageo plc; William Goldring.
20190329 | G | Vista Equity Partners Fund VI, L.P.; Apptio, Inc.; Vista Equity Partners Fund VI, L.P.
11/29/2018
20190311 | G | IFM Global Infrastructure Fund; Vitol Holding B.V.; IFM Global Infrastructure Fund.
20190312 | G | Vitol Investment Partnership II Limited; VJVCo; Vitol Investment Partnership II Limited.
20190336 | G | Hexagon Composites ASA; AFS Holdco, LLC; Hexagon Composites ASA.
20190339 | G | Arcosa, Inc.; H.I.G. Capital Partners IV, L.P.; Arcosa, Inc.
20190345 | G | Audax Private Equity Fund V-A, L.P.; 3RC/Phoenix Investment, LLC; Audax Private Equity Fund V-A, L.P.
20190212 | G | Golden Gate Capital Opportunity Fund. L.P.; VeriSign, Inc.; Golden Gate Capital Opportunity Fund. L.P.
20190332 | G | Richard A. Robinson & Betti G. Robinson; O'Neal Industries, Inc.; Richard A. Robinson & Betti G. Robinson.
20190347 | G | China National Chemical Corporation; Bonide Products, Inc.; China National Chemical Corporation.
20190350 | G | AIA Oratam Sidecar LLC; Hudson Transmission Partners, LLC; AIA Oratam Sidecar LLC.
20190351 | G | Mr. Cooper Group Inc.; Evan M. Stone; Mr. Cooper Group Inc.
20190352 | G | Sun Capital Partners VI, LP.; Southfield Tier One Investment LP; Sun Capital Partners VI, LP.
20190353 | G | Chesapeake Energy Corporation; WildHorse Resource Development Corporation; Chesapeake Energy Corporation.
20190355 | G | Leggett & Platt Incorporated; Elite Comfort Solutions LP; Leggett & Platt Incorporated.
20190357 | G | Sentinel Capital Partners VI, L.P.; Irving Place Capital Partners III SPV, L.P.; Sentinel Capital Partners VI, L.P.
20190359 | G | Linden Capital Partners IV-A LP; Arlington Capital Partners III, L.P.; Linden Capital Partners IV-A LP.
20190367 | G | Sycamore Partners III, L.P.; Newell Brands Inc.; Sycamore Partners III, L.P.
20190375 | G | Klaus-Michael Kuhne; The Resolute Fund III, L.P.; Klaus-Michael Kuhne.
20190377 | G | Chatchaval Jiaravanon; Meredith Corporation; Chatchaval Jiaravanon.
20190388 | G | AIPCF VI Indirect Investor AIV LP; Armstrong Flooring, Inc.; AIPCF VI Indirect Investor AIV LP.
20190389 | G | American Industrial Partners Capital Fund V, L.P.; Elkay Manufacturing Company; American Industrial Partners Capital Fund V, L.P.
20190390 | G | Open Text Corporation; LiaisonTechnologies, Inc.; Open Text Corporation.
20190396 | G | Prime Communications, L.P.; GameStop Corp.; Prime Communications, L.P.

FOR FURTHER INFORMATION CONTACT: Theresa Kingsberry, Program Support Specialist, Federal Trade Commission Premerger Notification Office, Bureau of Competition, Room CC-5301, Washington, DC 20024, (202) 326-3100.

By direction of the Commission.
April J. Tabor,
Acting Secretary.

[FR Doc. 2019-07735 Filed 4-17-19; 8:45 am]

BILLING CODE 6750-01-P